FEDERAL COMMUNICATIONS COMMISSION

47 CFR Part 73

[DA 02-2061; MB Docket No. 02-239, RM-10529; MB Docket No. 02-240, RM-10530; MB Docket No. 02-241, RM-10531; MB Docket No. 02-242, RM-10532; MB Docket No. 02-243, RM-10533; MB Docket No. 02-244, RM-10534; MB Docket No. 02-245, RM-10544; MB Docket No. 02-246, RM-10535; MB Docket No. 02-247, RM-10536; MB Docket No. 02-248, RM-10537; and MB Docket No. 02-249, RM-10538]

Radio Broadcasting Services: Alpine, TX; Clayton, OK; Guthrie, TX; Hebbronville, TX; Mertzon, TX; Premont, TX; Roaring Springs, TX; Rocksprings, TX; Sanderson, TX; Smiley, TX; and Thomas, OK

AGENCY: Federal Communications Commission.

ACTION: Proposed rule.

SUMMARY: This document proposes new allotments to Alpine, TX; Clayton, OK; Guthrie, TX; Hebbronville, TX; Mertzon, TX; Premont, TX; Roaring Springs, TX; Rocksprings, TX; Sanderson, TX; Smiley, TX; and Thomas, OK. The Commission requests comments on a petition filed by Linda Crawford, proposing the allotment of Channel 293C at Alpine, Texas, as the community's third local aural transmission service. Channel 293C can be allotted to Alpine in compliance with the Commission's minimum distance separation requirements without any site restrictions. The coordinates for Channel 293C at Alpine are 30-21-36 North Latitude and 103-39-36 West Longitude. Since Alpine is located within 320 kilometers of the U.S.-Mexico border, concurrence of the Mexican Government has been requested for this allotment. See Supplementary Information.

DATES: Comments must be filed on or before October 21, 2002, and reply comments on or before November 5, 2002.

ADDRESSES: Federal Communications Commission, Washington, DC 20554. In addition to filing comments with the FCC, interested parties should serve the petitioners, as follows: Linda Crawford, 3500 Maple Ave., #1320; Dallas, Texas 75219 (Petitioner for Alpine, Texas; Guthrie, Texas; Hebbronville, Texas; Mertzon, Texas; Premont, Texas; Roaring Springs, Texas; Sanderson, Texas; and Smiley, Texas); Jeraldine Anderson, 1702 Cypress Drive, Irving, Texas 75061 (Petitioner for Clayton, Oklahoma); Charles Crawford, 4553 Bordeaux Ave., Dallas, Texas 75205 (Petitioner for Rocksprings, Texas); and Robert Fabian, 4 Hickory Crossing Lane, Argyle, Texas 76226 (Petitioner for Thomas, Oklahoma).

FOR FURTHER INFORMATION CONTACT: R. Barthen Gorman, Media Bureau, (202) 418-2180.

SUPPLEMENTARY INFORMATION: This is a synopsis of the Commission's Notice of Proposed Rule Making, MB Docket No. 02-239; MB Docket No. 02-240; MB Docket No. 02-241; MB Docket No. 02-242; MB Docket No. 02-243; MB Docket No. 02-244; MB Docket No. 02-245; MB Docket No. 02-246; MB Docket No. 02-247; MB Docket No. 02-248; and MB Docket No. 02-248, adopted August 14, 2002, and released August 30, 2002. The full text of this Commission decision is available for inspection and copying during regular business hours in the FCC's Reference Information Center at Portals II, 445 12th Street, SW., CY-A257, Washington, DC 20554. This document may also be purchased from the Commission's duplicating contractors, Qualex International, Portals II, 445 12th Street, SW., Room CY-B402, Washington, DC 20554, telephone 202-863-2893, facsimile 202-863-2898, or via e-mail qualexint@aol.com.

The Commission requests comments on a petition filed by Jeraldine Anderson proposing the allotment of Channel 241A at Clayton, Oklahoma, as the community's first local aural transmission service. Channel 241A can be allotted to Clayton in compliance with the Commission's minimum distance separation requirements with a site restriction of 14.7 kilometers (9.1 miles) south of Clayton. The coordinates for Channel 241A at Clayton are 34-27-28 North Latitude and 95-22-01 West Longitude.

The Commission requests comments on a petition filed by Linda Crawford proposing the allotment of Channel 252A at Guthrie, Texas, as that community's first local aural transmission service. Channel 252A can be allotted to Guthrie in compliance with the Commission's minimum distance separation requirements with a site restriction of 9.8 kilometers (6.1 miles) northwest of Guthrie. The coordinates for Channel 252A at Guthrie are 33-41-26 North Latitude and 100-23-15 West Longitude.

The Commission requests comments on a petition filed by Linda Crawford proposing the allotment of Channel 232A at Hebbronville, Texas, as that community's third local aural transmission service. Channel 232A can be allotted to Hebbronville in compliance with the Commission's minimum distance separation requirements with a site restriction of 11.2 kilometers (7.0 miles) northwest of Hebbronville. The coordinates for Channel 232A at Hebbronville are 27-23-18 North Latitude and 98-44-26 West Longitude. Since Hebbronville is located within 320 kilometers of the U.S.-Mexico border, concurrence of the Mexican Government has been requested for this allotment.

The Commission requests comments on a petition filed on behalf of Linda Crawford proposing the allotment of Channel 278C2 at Mertzon, Texas, as that community's second local aural transmission service. Channel 278C2 can be allotted to Mertzon in compliance with the Commission's minimum distance separation requirements with a site restriction 10.8 kilometers (6.7 miles) southwest of Mertzon. The coordinates for Channel 278C2 at Mertzon are 31-10-09 North Latitude and 100-51-41 West Longitude. Since Mertzon is located within 320 kilometers of the U.S.-Mexico border, concurrence of the Mexican Government has been requested for this allotment.

The Commission requests comments on a petition filed by Linda Crawford proposing the allotment of Channel 287A at Premont, Texas, as that community's second local FM transmission service. Channel 287A can be allotted to Menard in compliance with the Commission's minimum distance separation requirements with a site restriction of 14.4 kilometers (8.9 miles) south of Premont, Texas. The coordinates for Channel 287A at Premont are 27-14-13 North Latitude and 98-10-27 West Longitude. Since Premont is located within 320 kilometers of the U.S.-Mexico border, concurrence of the Mexican Government has been requested for this allotment.

The Commission requests comments on a petition filed by Linda Crawford proposing the allotment of Channel 276C3 at Roaring Springs, Texas, as that community's first local aural transmission service. Channel 276C3 can be allotted to Roaring Springs in compliance with the Commission's minimum distance separation requirements with a site restriction of 7.8 kilometers (4.9 miles) northeast of Roaring Springs, Texas. The coordinates for Channel 276C3 at Roaring Springs are 33-55-44 North Latitude and 100-46-48 West Longitude.

The Commission requests comments on a petition filed by Charles Crawford proposing the allotment of Channel 291A at Rocksprings, Texas, as that community's fourth local aural transmission service. Channel 291A can be allotted to Rocksprings in compliance with the Commission's minimum distance separation requirements with a site restriction of 14.4 kilometers (8.9 miles) southwest of Rocksprings, Texas. The coordinates for Channel 291A at Rocksprings are 29-57-03 North Latitude and 100-20-02 West Longitude. Since Rocksprings is located within 320 kilometers of the U.S.-Mexico border, concurrence of the Mexican Government will be requested for this allotment.

The Commission requests comments on a petition filed by Linda Crawford proposing the allotment of Channel 286C2 at Sanderson, Texas, as that community's second local aural transmission service. Channel 286C2 can be allotted to Sanderson in compliance with the Commission's minimum distance separation requirements with a site restriction of 20.6 kilometers (12.8 miles) southwest of Sanderson, Texas. The coordinates for Channel 286C2 at Sanderson are 30-03-18 North Latitude and 102-35-01 West Longitude. Since Sanderson is located within 320 kilometers of the U.S.-Mexico border, concurrence of the Mexican Government has been requested for this allotment.

The Commission requests comments on a petition filed by Linda Crawford proposing the allotment of Channel 280A at Smiley, Texas, as that community's first local aural transmission service. Channel 280A can be allotted to Smiley in compliance with the Commission's minimum distance separation requirements with a site restriction of 10.3 kilometers (6.4 miles) east of Smiley, Texas. The coordinates for Channel 280A at Smiley are 29-14-27 North Latitude and 97-32-07 West Longitude. Since Smiley is located within 320 kilometers of the U.S.-Mexico border, concurrence of the Mexican Government will be requested for this allotment.

The Commission requests comments on a petition filed by Robert Fabian proposing the allotment of Channel 288A at Thomas, Oklahoma, as that community's first local aural transmission service. Channel 288A can be allotted to Thomas in compliance with the Commission's minimum distance separation requirements with a site restriction of 9.2 kilometers (5.7 miles) north of Thomas, Oklahoma. The coordinates for Channel 288A at Thomas are 35-49-46 North Latitude and 98-45-09 West Longitude.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Oklahoma, is amended by adding Clayton, Channel 241A, and Thomas, Channel 288A.

3. Section 73.202(b), the Table of FM Allotments under Texas, is amended by adding Channel 293C at Alpine; Guthrie, Channel 252A; Channel 232A at Hebbronville; Channel 278C2 at Mertzon; Channel 287A at Premont; Roaring Springs, Channel 276C3; Channel 291A at Rocksprings; Sanderson, Channel 286C2; and Smiley, Channel 280A.

Federal Communications Commission.
John A. Karousos,
Assistant Chief, Audio Division Media Bureau.

[FR Doc. 02-23141 Filed 9-11-02; 8:45 am]

BILLING CODE 6712-01-P